SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995, 44 U.S.C Chapter 35 requires federal agencies to publish a notice in the Federal Register concerning each proposed collection of information before submission to OMB, and to allow 60 days for public comment in response to the notice. This notice complies with that requirement.

DATES: Submit comments on or before November 21, 2014.

ADDRESSES: Send all comments to Johnny Kitts, Chief, fund Administration Branch Office of Investment, Small Business Administration, 409 3rd Street, 6th Floor, Washington, DC 20416.

FOR FURTHER INFORMATION CONTACT: Johnny Kitts, Chief, fund Administration Branch, Office of Investment, johnny.kitts@sba.gov 202-205-7587, or Curtis B. Rich, Management Analyst, 202-205-7030, curtis.rich@sba.gov.

SUPPLEMENTARY INFORMATION: Applicants for SBA-guaranteed commitment must complete these forms as part of the application process. SBA uses the information to make informed and proper credit decisions and to establish the SBIC's eligibility for leverage and need for funds.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

(1) Title: 25-Model Corp. Resol. Or GP Certif., 33-Model Letter to Selling Agent, 34-Bank ID, 1065-Appl. Lic. Assure. of Compliance, SBA Forms 25PCGP, SBA Form 25 PIGP, SBA Form 33, SBA Form 34, SBA Form 1065.

Description of Respondents: Eligible SBIC's.

Form Number: SBA Forms 25, PC, PCGP, PIGP, 33, 34, 1065.

Total Estimated Annual Responses: 48.

Total Estimated Annual Hour Burden: 42.

Curtis B. Rich,
Management Analyst.

[FR Doc. 2014-22439 Filed 9-19-14; 8:45 am]

BILLING CODE 8025-01-P